DEPARTMENT OF HOUSING AND URBAN DEVELOPMENT

[Docket No. FR-5300-N-06]

Notice of Availability: Notice of Funding Availability (NOFA) for Fiscal Year (FY) 2009 Lead-Based Paint Hazard Control Grant Program and Lead Hazard Reduction Demonstration Grant Program

AGENCY: Office of Healthy Homes and Lead Hazard Control, HUD.

ACTION: Notice.

SUMMARY: HUD announces the availability on its Web site of the application information, submission deadlines, funding criteria, and other requirements for the FY2009 Lead-Based Paint Hazard Control Grant Program and Lead Hazard Reduction Demonstration Grant Program NOFA. The NOFA makes approximately $117 million available under the Department of Housing and Urban Development Appropriations Act 2009 (Pub. L. 111-8, approved March 11, 2009). Applicants for assistance under this NOFA must address applicable requirements in HUD's Fiscal Year 2009 Notice of Funding Availability (NOFA) Policy Requirements and General Section to the HUD's FY2009 NOFAs for Discretionary Programs (General Section) published on December 29, 2008 (73 FR 79548), as amended on April 16, 2009 (74 FR 17685). Applicants should take particular note that they should follow the application submission instructions contained in this NOFA and not use those in the General Section. The notice providing information regarding the application process, funding criteria and eligibility requirements is available on the HUD Web site at http://www.hud.gov/lead or http://www.hud.gov/offices/adm/grants/fundsavail.cfm.

FOR FURTHER INFORMATION CONTACT: For information concerning the Lead-Based Paint Hazard Control Grant Program and Lead Hazard Reduction Demonstration Grant Program, contact Warren Friedman, Senior Advisor to the Director, Office of Healthy Homes and Lead Hazard Control, Department of Housing and Urban Development, 451 Seventh Street, SW., Room 8236, Washington, DC 20410-3000; telephone number 202-402-7574 (this is not a toll-free number). Persons with speech or hearing impairments may access this telephone number via TTY by calling the toll-free Federal Information Relay Service during working hours at 800-877-8339.

Dated: April 29, 2009.
Jon L. Gant,
Director, Office of Healthy Homes and Lead Hazard Control.

[FR Doc. E9-12095 Filed 5-20-09; 11:15 am]

BILLING CODE P